DEPARTMENT OF THE INTERIOR

National Park Service

60-Day Notice of Intention To Request Clearance of Collection of Information; Opportunity for Public Comment

AGENCY: Department of the Interior, National Park Service, Acadia National Park.

ACTION: Notice and request for comments.

SUMMARY: The National Park Service (NPS) in conjunction with the U.S. Navy and the University of Vermont, is proposing in 2001 to conduct a survey of military and civilian employees of the U.S. Navy Base located in the Schoodic Peninsula section of Acadia National Park. In the survey, employees will be asked about their recreational use of Acadia National Park and their feelings about how Navy Base property should be used if and when it is transferred to the National Park Service.

| Estimated numbers of responses | Burden hours
Survey of Employees at the U.S. Navy Base at Schoodic, Maine | 200 | 50

Under provisions of the Paperwork Reduction Act of 1995 and 5 CFR Part 1320, Reporting and Record Keeping Requirements, the National Park Service is soliciting comments on the need for gathering the information in the proposed surveys. The NPS also is asking for comments on the practical utility of the information being gathered; the accuracy of the burden hour estimate; ways to enhance the quality, utility and clarity of the information to be collected; and ways to minimize the burden to respondents, including use of automated information collection techniques or other forms of information technology.

The NPS goal in conducting this survey is to determine the amount and type of recreational use of Acadia National Park by U.S. Navy Base employees, and how these employees feel about potential future uses of Navy Base property if and when this property is transferred to the National Park Service

DATES: Public comments will be accepted on or before December 11, 2000.

SEND COMMENTS TO: Robert E. Manning, School of Natural Resources, University of Vermont, 356 Aiken Center, Burlington, VT 05405.

FOR FURTHER INFORMATION CONTACT: Robert E. Manning: Voice: (802) 656-3096, e-mail: <rmanning@nature.snr.uvm.edu.>

SUPPLEMENTARY INFORMATION:

Titles: Survey of Employees at the U.S. Navy Base at Schoodic, Maine.

Bureau form No.: None.

OMB No.: To be requested.

Expiration date: To be requested.

Type of request: Request for new clearance.

Description of need: The National Park Service needs information to plan for the potential transfer of property at the U.S. Navy Base at Schoodic, Maine to the National Park Service.

Automated data collection: At the present time, there is not an automated way to gather this information because it includes asking respondents about their use of Acadia National Park and their feelings about how Navy Base property should be used.

Description of respondents: Military and civilian employees of the U.S. Navy Base at Schoodic, Maine.

Estimated average number of respondents: 200.

Estimated average number of responses: Each respondent will respond only one time, so the number of responses will be the same as the number of respondents.

Estimated average burden hours per response: 15 minutes.

Frequency of response: 1 time per respondent.

Estimated annual reporting burden: 50 hours.

Dated: October 4, 2000.
Leonard E. Stowe,
Information Collection Clearance Officer, WASO Administrative Program Center, National Park Service.

[FR Doc. 00-25963 Filed 10-6-00; 8:45 am]

BILLING CODE 4310-70-M